DEPARTMENT OF LABOR

Office of the Secretary

Agency Information Collection Activities; Submission for OMB Review; Comment Request; Definition and Requirements for a Nationally Recognized Testing Laboratory

ACTION: Notice of availability; request for comments.

SUMMARY: The Department of Labor (DOL) is submitting the Occupational Safety and Health Administration (OSHA) sponsored information collection request (ICR) revision titled, “Definition and Requirements for a Nationally Recognized Testing Laboratory,” to the Office of Management and Budget (OMB) for review and approval for use in accordance with the Paperwork Reduction Act (PRA) of 1995. Public comments on the ICR are invited.

DATES: The OMB will consider all written comments that agency receives on or before July 30, 2018.

ADDRESSES: A copy of this ICR with applicable supporting documentation; including a description of the likely respondents, proposed frequency of response, and estimated total burden may be obtained free of charge from the RegInfo.gov website at http://www.reginfo.gov/public/do/PRAViewICR?ref_nbr=201711-1218-001 (this link will only become active on the day following publication of this notice) or by contacting Michel Smyth by telephone at 202-693-4129, TTY 202-693-8064, (these are not toll-free numbers) or sending an email to DOL_PRA_PUBLIC@dol.gov.

Submit comments about this request by mail to the Office of Information and Regulatory Affairs, Attn: OMB Desk Officer for DOL-OSHA, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW, Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

SUPPLEMENTARY INFORMATION: This ICR seeks approval under the PRA for revisions to the Definition and Requirements for a Nationally Recognized Testing Laboratory (NRTL) information collection. A number of OSHA issued standards contain requirements that specify employers use only equipment, products, or material tested or approved by a NRTL. These requirements ensure that employers use safe and efficacious equipment, products, or materials in complying with the standards. Accordingly, the OSHA promulgated its Program Regulation for NRTLs, 29 CFR 1910.7, which specifies procedures an organization must follow to apply for and to maintain OSHA recognition to test and certify equipment, products, or material for safe use in the workplace. The OSHA has also developed standardized optional use forms to facilitate and simplify the information collection process. The forms correspond to the application, expansion, and renewal processes defined in the NRTL Program. This information collection has been classified as a revision, because the OSHA intends to change the NRTL Program's fee schedule associated with initial recognition, program expansion, renewals of recognition, and on-site audits. To facilitate the payment of fees and reduce the burden on NRTLs, the OSHA is in the process of established an electronic payment mechanism on Pay.gov. A user would be required to complete a short payment form for each transaction on this site. The OSHA is also requesting an increase in costs associated with OSHA's planned increase in filing and assessment fees. The fees charged by OSHA under the existing fee schedule have been far lower than the costs of performing the activities for which the OSHA charges fees. The OSHA is required to set fees at a level that cover its full costs in reviewing NRTL applications. See 29 CFR 1910.7(f)(2). The proposed fee schedule will rectify this flaw and more accurately reflect the full cost of performing the activities for which OSHA charges fees. Occupational Safety and Health Act of 1970 sections 2(b)(3), (9), (12), and 8(c) and (g) authorize this information collection. See 29 U.S.C. 651(b)(3), (9), (12); 657(c), (g).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1218-0147. The current approval is scheduled to expire on April 30, 2020; however, the DOL notes that existing information collection requirements submitted to the OMB receive a month-to-month extension while they undergo review. New requirements would only take effect upon OMB approval. For additional substantive information about this ICR, see the related notice published in the Federal Register on December 28, 2016 (81 FR 95650).

Interested parties are encouraged to send comments to the OMB, Office of Information and Regulatory Affairs at the address shown in the ADDRESSES section within thirty (30) days of publication of this notice in the Federal Register. In order to help ensure appropriate consideration, comments should mention OMB Control Number 1218-0147. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OSHA.

Title of Collection: Definition and Requirements for a Nationally Recognized Testing Laboratory.

OMB Control Number: 1218-0147.

Affected Public: Private Sector—businesses or other for-profits.

Total Estimated Number of Respondents: 20.

Total Estimated Number of Responses: 140.

Total Estimated Annual Time Burden: 1,523 hours.

Total Estimated Annual Other Costs Burden: $728,352.

Authority: 44 U.S.C. 3507(a)(1)(D).

Michel Smyth,
Departmental Clearance Officer.

[FR Doc. 2018-13969 Filed 6-28-18; 8:45 am]

BILLING CODE 4510-26-P